DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub.L. 104-13), the Health Resources and Services Administration (HRSA) publishes periodic summaries of proposed projects being developed for submission to the Office of Management and Budget (OMB) under the Paperwork Reduction Act of 1995. To request more information on the proposed project or to obtain a copy of the data collection plans and draft instruments, e-mail paperwork@hrsa.gov or call the HRSA Reports Clearance Officer on (301) 443-1129.

Comments are invited on: (a) The proposed collection of information for the proper performance of the functions of the Agency; (b) the accuracy of the Agency's estimate of the burden of the proposed collection of information; (c) ways to enhance the quality, utility, and clarity of the information to be collected; and (d) ways to minimize the burden of the collection of information on respondents, including through the use of automated collection techniques or other forms of information technology.

Proposed Project: The Nursing Education Loan Repayment Program Application (OMB No. 0915-0140)—[Revision]

This is a request for revision of the Nursing Education Loan Repayment Program (NELRP) application and participant monitoring forms. The NELRP is authorized by 42 USC 297n(a) (section 846(a) of the Public Health Service Act, as amended by Public Law 107-205, August 1, 2002 and Public Law 111-148, March 23, 2010).

Under the NELRP, registered nurses are offered the opportunity to enter into a contractual agreement with the Secretary to receive loan repayment for up to 85 percent of their qualifying educational loan balance as follows: 30 percent each year for the first 2 years and 25 percent for the optional third year. In exchange, the nurses agree to serve full-time for a minimum of 2 years as a registered nurse at a health care facility with a critical shortage of nurses or as nurse faculty at an eligible school of nursing. The NELRP forms provide information that is needed for selecting participants, repaying qualifying loans for education, and monitoring compliance with service requirements. The NELRP forms include the following: The NELRP Application, the Loan Information and Verification form, the Employment Verification form, the Authorization for Release of Employment Information form, the Authorization to Release Information form, the Certification Regarding Debarment, Suspension, Disqualification and Related Matters form, the Certification of Accreditation Status for School of Nursing Education Programs form, and the NELRP Application Checklist and Self-Certification form.

The program is expecting the number of applications to increase to approximately 8,000 annual respondents. This is an increase of 2,500 respondents for registered nurses at health care facilities and 500 respondents for nurse faculty at eligible schools of nursing.

The annual estimate of burden for Applicants is as follows:

Instrument | Number of respondents | Responses/ respondents | Total responses | Hours per response | Total burden hours
NELRP application | 8,000 | 1 | 8,000 | 1.5 | 12,000
Loan Information and Verification Form | 8,000 | 3 | 24,000 | 1 | 24,000
Employment Verification Form | 8,000 | 1 | 8,000 | .50 | 4,000
Authorization for Release of Employment Information Form | 8,000 | 1 | 8,000 | .10 | 800
Authorization to Release Information Form | 8,000 | 1 | 8,000 | .10 | 800
Certification Regarding Debarment, Suspension, Disqualification and Related Matters Form | 8,000 | 1 | 8,000 | .10 | 800
Certification of Accreditation Status for School of Nursing Education Programs Form | 500 | 1 | 500 | .10 | 50
Application Checklist and Self-Certification Form | 8,000 | 1 | 8,000 | .50 | 4,000
Total |  |  | 72,500 |  | 46,450

The annual estimate of burden for Participants is as follows:

Participant Semi-Annual Employment Verification Form | 2,300 | 2 | 4,600 | .5 | 2,300
Total | 2,300 | 2 | 4,600 | .5 | 2,300

E-mail comments to paperwork@hrsa.gov or mail the HRSA Reports Clearance Officer, Room 10-33, Parklawn Building, 5600 Fishers Lane, Rockville, MD 20857. Written comments should be received within 60 days of this notice.

Dated: September 22, 2010.
Sahira Rafiullah,
Director, Division of Policy and Information Coordination.

[FR Doc. 2010-24209 Filed 9-27-10; 8:45 am]

BILLING CODE 4165-15-P